DEPARTMENT OF ENERGY

Federal Energy Regulatory Commission

[Project No.: 14813-000]

Arkansas Electric Cooperative Corporation; Notice of Preliminary Permit Application Accepted for Filing and Soliciting Comments, Motions To Intervene, and Competing Applications

On January 4, 1017, Arkansas Electric Cooperative Corporation (AECC), filed an application for a preliminary permit, pursuant to section 4(f) of the Federal Power Act, proposing to study the feasibility of the River Mountain Pumped Storage Project, at the U.S. Army Corps of Engineers (Corps) Lake Dardanelle on the Arkansas River in Logan County, Arkansas. The sole purpose of a preliminary permit, if issued, is to grant the permit holder priority to file a license application during the permit term. A preliminary permit does not authorize the permit holder to perform any land disturbing activities or otherwise enter upon lands or waters owned by others without the owners' express permission.

The proposed project would consist of: (1) A 120-foot-high compacted rock fill embankment surrounding; (2) a 208-acre upper reservoir, with an impervious liner, having 11,650 acre-foot gross storage capacity; (3) a intake/outlet structure in the upper reservoir; (4) a 680-foot-long, 30-foot-diameter, concrete-lined power shaft penstock; (5) a 1,420-foot-long 30-foot-diameter, concrete-lined, power tunnel penstock that will split into three 16-foot-diameter penstocks approximately 450-foot-long, that will extend to the powerhouse; (6) an underground powerhouse/pump station, containing three reversible pump-turbine generating units, with a total generating capacity of 600 megawatts; (7) a 6,620 foot-long tailrace tunnel to; the existing Corps Lake Dardanelle as its lower reservoir; (8) an intake/outlet structure located on the south shore of Lake Dardanelle; (9) a 8,000-foot-long, 500-kilovolt overhead transmission line from the powerhouse to (10) a proposed substation at the point of interconnection with an existing utility transmission line. The proposed project would have an annual energy generation of 640,000 megawatt-hours.

Applicant Contact: Curtis Warner, Arkansas Electric Cooperative Corporation, 1 Cooperative Way, Little Rock, Arkansas 72209; phone (501) 570-2462.

FERC Contact: Chris Casey, christiane.casey@ferc.gov, (202) 502-8577.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14813) in the docket number field to access the document. For assistance, contact FERC Online Support.

Dated: March 16, 2017.
Kimberly D. Bose,
Secretary.

[FR Doc. 2017-05792 Filed 3-22-17; 8:45 am]

BILLING CODE 6717-01-P